INTERNATIONAL TRADE COMMISSION

[Investigation Nos. 731-TA-1114 and 1115 (Preliminary)]

Certain Steel Nails From China and the United Arab Emirates

AGENCY: United States International Trade Commission.

ACTION: Revised schedule for the subject investigations.

SUMMARY: On May 29, 2007, the Commission established a schedule for the conduct of the subject investigations (72 FR 30831, June 4, 2007). Subsequently, the Department of Commerce extended the date for its initiation of the investigations from June 18 to July 9, 2007. The Commission, therefore, is revising its schedule to conform with Commerce's new schedule.

The Commission's new schedule for the investigations is as follows: The deadline for filing written briefs is June 26, 2007, and the administrative deadline for transmitting determinations and views to Commerce is July 30, 2007.

For further information concerning the conduct of these investigations and rules of general application, consult the Commission's Rules of Practice and Procedure, part 201, subparts A through E (19 CFR part 201), and part 207, subparts A and B (19 CFR part 207).

DATES: Effective Date: June 21, 2007.

FOR FURTHER INFORMATION CONTACT: Fred Ruggles (202-205-3187/fred.ruggles@usitc.gov), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

Authority: These investigations are being conducted under authority of title VII of the Tariff Act of 1930; this notice is published pursuant to section 207.12 of the Commission's rules.

By order of the Commission.
Issued: June 18, 2007.
Marilyn R. Abbott,
Secretary to the Commission.

[FR Doc. E7-12007 Filed 6-20-07; 8:45 am]

BILLING CODE 7020-02-P